SECURITIES AND EXCHANGE COMMISSION

[Release No. 34-44908; File No. SR-CBOE-2001-48]

Self-Regulatory Organizations; Notice of Filing and Order Granting Accelerated Approval of Proposed Rule Change by the Chicago Board Options Exchange, Incorporated to Adopt Generic Listing Standards for Trust Issued Receipts, to Provide Alternate Eligibility Requirements for Component Securities of Trust Issued Receipts in Certain Limited Situations and to Increase the Permissible Weight of the Most Heavily Weighted Component Stock of Index Portfolio Shares and Index Portfolio Receipts

Correction

In notice document 01-25700 beginning on page 52161 in the issue of Friday, October 12, 2001, make the following correction:

On page 52161, in the third column, under paragraph .01 (ii), in the third line, “$50 million” should read “$150 million”.

[FR Doc. C1-25700 Filed 1-11-02; 8:45 am]

BILLING CODE 1505-01-D

SECURITIES AND EXCHANGE COMMISSION

[Release No. 34-45220; File No. SR-ISE-2001-33]

Self Regulatory Organizations; International Securities Exchange LLC; Order Granting Accelerated Approval to a Proposed Rule Change and Amendment No. 1 and Notice of Filing and Order Granting Accelerated Approval to Amendment No. 2 to the Proposed Rule Change Revising the Original Listing Criteria for Underlying Securities in ISE Rule 502

December 31, 2001.

Correction

In notice document 02-286 beginning on page 760 in the issue of Monday, January 7, 2002, make the following correction:

On page 760, in the first column, the heading is corrected as set forth above.

[FR Doc. C2-286 Filed 1-11-02; 8:45 am]

BILLING CODE 1505-01-D

DEPARTMENT OF THE TREASURY

Customs Service

19 CFR Part 12

Import Restrictions Imposed on Archaeological and Ethnological Materials from Bolivia

Correction

In correction document C1-30417 beginning on page 953 in the issue of Tuesday, January 8, 2002, make the following correction:

On page 953, in the first column, the heading is set forth as above.

[FR Doc. C1-30417 Filed 1-11-02; 8:45 am]

BILLING CODE 1505-01-D